DEPARTMENT OF TRANSPORTATION

Federal Aviation Administration

[Docket No: FAA-2021-0111]

Deadline for Notification of Intent To Use the Airport Improvement Program (AIP) Primary, Cargo, and Nonprimary Entitlement Funds Available to Date for Fiscal Year 2021

AGENCY: Federal Aviation Administration, Department of Transportation.

ACTION: Notice.

SUMMARY: This action announces March 15, 2021, as the deadline for each airport sponsor to notify the FAA if it will use its Fiscal Year (FY) 2021 entitlement funds (referred to as apportionments in 49 U.S.C. 47114) to accomplish Airport Improvement Program (AIP) eligible projects. Each sponsor has previously identified to the FAA such projects through the Airports Capital Improvement Plan process. This action further announces May 3, 2021, as the deadline for an airport sponsor to submit a final grant application to use FY 2021 entitlement funds.

FOR FURTHER INFORMATION CONTACT: David F. Cushing, Manager, Airports Financial Assistance Division, APP-500, at (202) 267-8827.

SUPPLEMENTARY INFORMATION: Title 49 U.S.C. 47105(f) provides that the sponsor of an airport for which entitlement funds are apportioned shall notify the Secretary, by such time and in a form as prescribed by the Secretary, of the airport sponsor's intent to submit a grant application for its available entitlement funds. Therefore, the FAA is hereby notifying such airport sponsors of the steps required to ensure that the FAA has sufficient time to carry over and convert remaining entitlement funds.

The AIP grant program is operating under the requirements of Public Law 115-254, the “FAA Reauthorization Act of 2018,” enacted on October 5, 2018, which authorizes the AIP through September 30, 2023, and Public Law 116-260, the “Transportation, Housing and Urban Development, and Related Agencies Appropriations Act, 2021,” which appropriates FY 2021 funds for the AIP through September 30, 2021. In accordance with legislation enacted as of the date of this notice, the AIP has approximately $2.3 billion of entitlement funds available through September 30, 2021.

This notice applies only to those airports that have entitlement funds apportioned to them, except those nonprimary airports located in designated Block Grant States.

An airport sponsor intending to apply for any of its available entitlement funds, including those unused but still available in accordance with 49 U.S.C. 47117 from prior years, must notify the FAA of its intent to submit a grant application by 12 p.m. prevailing local time on Monday, March 15, 2021.

This notice must be in writing and address all entitlement funds available to date for FY 2021, including those entitlement funds not obligated from prior years. These notifications are critical to ensure efficient planning and administration of the AIP. The final grant application deadline is Monday, May 3, 2021. The final grant application funding requests should be based on bids, not estimates. The FAA will carryover the remainder of available entitlement funds after the above date as prescribed under 49 U.S.C. 47117. These funds will not be available again to the airport sponsor until the beginning of FY 2022. Dates are subject to possible adjustment based on future legislation. As of the publication of this notice, appropriations for the FAA expire on September 30, 2021, and authorization legislation for the FAA expires on September 30, 2023.

The FAA has determined this process and deadline will expedite and facilitate the FY 2021 grant-making process.

Issued in Washington, DC, on February 11, 2021.
Robert John Craven,
Director, Office of Airport Planning and Programming.

[FR Doc. 2021-03202 Filed 2-17-21; 8:45 am]

BILLING CODE 4910-13-P